DEPARTMENT OF JUSTICE

Antitrust Division

Notice Pursuant to the National Cooperative Research and Production Act of 1993—Application Service Provider Industry Consortium, Inc.

Notice is hereby given that, on November 30, 2000, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, Apptus, Inc, Reston, VA; ApplicationStation.com, Charlotte, NC; b2solutionsonline, Billingham, Teeside, United Kingdom; Convergence, Inc., Tampa, FL; Eltrax Systems, Inc., Atlanta, GA; Foreshock, Inc., Irvine, CA; Infocrossing, Inc., Leonia, NJ; IT Support Center, Inc., Dothan, AL; Korea Digital Line, Seoul, Republic of Korea; L.I.M.S. (USA), Inc., Hollywood, FL; Mindbridge.com, Fort Washington, PA; NBNTech Inc., E Commerce Solutions Prov., Lanham, MD; New Millenium Games, Inc., Reno, NV; Redbourne, Berkhamstead Herts, England, United Kingdom; Telstra Corporation, Melbourne, Victoria, Australia; TelCel Celular C.A., Los Palos Grandes, Caracas, Venezuela; Network Integration Solutions, Inc., Seattle, WA; and Veracicom, Seattle, WA have been added as parties to this venture.

No other changes have been made in either the membership or planned activity of the group research project. Membership in this group research project remains open, and Application Service Provider Industry Consortium, Inc. intends to file additional written notification disclosing all changes in membership.

On July 28, 1999, Application Service Provider Industry Consortium, Inc. filed its original notification pursuant to section 6(a) of the Act. The Department of Justice published a notice in the Federal Register pursuant to section 6(b) of the Act on March 21, 2000 (65 FR 15174).

The last notification was filed with the Department on August 1, 2000. A notice was published in the Federal Register pursuant to section 6(b) of the Act on November 2, 2000 (65 FR 65880).

Constance K. Robinson,
Director of Operations Antitrust Division.

[FR Doc. 01-6884 Filed 3-19-01; 8:45 am]

BILLING CODE 4410-11-M